Proclamation 9871 of April 30, 2019

Older Americans Month, 2019

By the President of the United States of America

A Proclamation

Older Americans are treasured members of our communities. They have poured their lives into our country in ways seen and unseen—often at great personal sacrifice. To current generations and to those of the future, they have given a country whose greatness is unparalleled and which is only growing stronger. During Older Americans Month, we honor these Americans, we remember their countless contributions, and we proudly renew our abiding commitment to their well-being.

Older Americans enrich our lives in innumerable ways. Their diverse experiences and time-tested wisdom guide younger generations, connect them with our country's history, and empower them with the confidence to face the future. Older Americans devote themselves to their families. They lend their experience in the work place. They volunteer for religious and community organizations. In every context, they deepen our appreciation for country, they model selfless service to others, and they remain vibrant and contributing participants in the American experience.

My Administration is working to improve quality of life for our Nation's seniors. The Department of Justice is taking action to counter the growing threat of fraud against older Americans. In addition, we are working to lower the price of prescription drugs, which declined in 2018 for the first time in nearly half a century. We are building on that progress by implementing my American Patients First blueprint, which lays out strategies for drug pricing reform, including through improved competition and better price negotiation. Many companies give European countries a better deal on drug prices than they give to the United States. This has to stop. We will make sure that our great seniors on Medicare share in the discounts these companies have given to patients in other countries. I have also signed into law legislation that will help provide patients with more information to save on their prescription drugs and reduce out-of-pocket costs. With each action my Administration takes, it will protect both Medicare and Social Security for our seniors, who have paid into these programs for many decades and have earned the benefits they provide.

More than ever before, older Americans are taking charge, striving for wellness, focusing on independence, and advocating for themselves and others. This month, as we celebrate the central role that our elders play in vitalizing our families, neighborhoods, businesses, and lives, we also recommit to listening to their voices and meeting their needs. They deserve our honor, our sincere gratitude, and our respect for all that they have done to build and sustain our great Nation.

NOW, THEREFORE, I, DONALD J. TRUMP, President of the United States of America, by virtue of the authority vested in me by the Constitution and the laws of the United States, do hereby proclaim May 2019 as Older Americans Month. I call upon all Americans to honor our elders, acknowledge their contributions, care for those in need, and reaffirm our country's commitment to older Americans this month and throughout the year.

IN WITNESS WHEREOF, I have hereunto set my hand this thirtieth day of April, in the year of our Lord two thousand nineteen, and of the Independence of the United States of America the two hundred and forty-third.

[FR Doc. 2019-09325

Filed 5-3-19; 8:45 am]

Billing code 3295-F9-P